DEPARTMENT OF ENERGY

Federal Energy Regulatory Commission

[Docket Nos. RP01-245-000 and RP01-253-000]

Transcontinental Gas Pipe Line Corporation; Notice of Informal Settlement Conference

February 6, 2002.

Take notice that an informal settlement conference will be convened in this proceeding commencing at 10:00 am on Wednesday, February 13, 2002 at the offices of the Federal Energy Regulatory Commission, 888 First Street, NE, Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

For additional information, please contact Bill Collins at (202) 208-0248 or Irene Szopo at (202) 208-1602.

Magalie R. Salas,
Secretary.

[FR Doc. 02-3332 Filed 2-11-02; 8:45 am]

BILLING CODE 6717-01-P